NATIONAL AERONAUTICS AND SPACE ADMINISTRATION

[Notice 03-091]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted on or before September 29, 2003.

ADDRESSES: All comments should be addressed to Ms. Celeste Dalton, Code HK, National Aeronautics and Space Administration, Washington, DC 20546-0001.

FOR FURTHER INFORMATION CONTACT: Ms. Nancy Kaplan, NASA Reports Officer, (202) 358-1372.

Title: Uncompensated Overtime.

OMB Number: 2700-0080.

Type of review: Extension of a currently approved collection.

Need and Uses: Information collected is required to evaluate the use of “uncompensated overtime” in bids and proposals submitted to NASA for the award of contracts for technical and professional services in support of NASA's mission and in response to contractual requirements. The requirement is based on Section 834 of PL 101-510 (10 U.S.C. 2331) and FAR 37.115.

Affected Public: Business or other for-profit.

Number of Respondents: 300.

Responses Per Respondent: 1.

Annual Responses: 300.

Hours Per Request: 3.25.

Annual Burden Hours: 975.

Frequency of Report: On occasion.

Patricia L. Dunnington,
Chief Information Officer, Office of the Administrator.

[FR Doc. 03-19533 Filed 7-30-03; 8:45 am]

BILLING CODE 7510-01-P